DEPARTMENT OF COMMERCE

International Trade Administration

[A-570-879]

Polyvinyl Alcohol From the People's Republic of China: Rescission of Antidumping Duty Administrative Review; 2013-2014

AGENCY: Enforcement and Compliance, International Trade Administration, Department of Commerce.

DATES: Effective April 1, 2015.

FOR FURTHER INFORMATION CONTACT: Mandy Mallott, AD/CVD Operations, Office III, Enforcement and Compliance, International Trade Administration, U.S. Department of Commerce, 14th Street and Constitution Avenue NW., Washington, DC 20230; telephone (202) 482-6430.

SUPPLEMENTARY INFORMATION:

Background

On October 31, 2014, the Department received a timely request from Sekisui Specialty Chemical America, LLC (“Sekisui”) and Kuraray America Inc. (“Kuraray”) (collectively, “Petitioners”), to conduct an administrative review of the antidumping duty order on polyvinyl alcohol (“PVA”) from the People's Republic of China (“PRC”) with regard to Sinopec Sichuan Vinylon Works (“SVW”). Based upon this request, on November 28, 2014, the Department of Commerce (“Department”) initiated an administrative review of the antidumping duty order on PVA from the PRC with respect to SVW and covering the period of October 1, 2013, to September 30, 2014.¹ On February 25, 2015, Petitioners withdrew their request for review of SVW.²

¹ See Initiation of Antidumping and Countervailing Duty Administrative Reviews, 79 FR 70850 (November 28, 2014).

² See Letter from Petitioners titled “Polyvinyl Alcohol from the People's Republic of China: Withdrawal of Request for Antidumping Duty Administrative Review,” dated February 25, 2015.

Rescission

Pursuant to 19 CFR 351.213(d)(1), the Department will rescind an administrative review, in whole or in part, if the parties that requested a review withdraws the request within 90 days of the date of publication of notice of initiation of the requested review. Petitioners withdrew their request for review before the 90-day deadline, and no other party requested an administrative review of the antidumping duty order on PVA from the PRC for the period of review. Therefore, in response to Petitioners' withdrawal of their request for review and pursuant to 19 CFR 351.213(d)(1), we are rescinding this review in its entirety.

Assessment

The Department will instruct U.S. Customs and Border Protection (“CBP”) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as the only reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751 and 777(i)(l) of the Tariff Act of 1930, as amended, and 19 CFR 351.213(d)(4).

Dated: March 25, 2015.
Christian Marsh,
Deputy Assistant Secretary for Antidumping and Countervailing Duty Operations.

[FR Doc. 2015-07471 Filed 3-31-15; 8:45 am]

BILLING CODE 3510-DS-P